COMMODITY FUTURES TRADING COMMISSION

17 CFR Part 2

RIN 3038-AC42

Rules Relating to Permissible Uses of Official Seal

AGENCY: Commodity Futures Trading Commission.

ACTION: Final rule.

SUMMARY: The Commodity Futures Trading Commission (“Commission” or “CFTC”) hereby revises 17 CFR part 2, by adding a new section, 17 CFR 2.4, to allow its employee recreation association, the Commodity Futures Trading Commission Employee Recreation Association (“Association”) to use the Commission seal for permissible, “non-official purposes,” e.g., fundraising, social, sports, and similar activities such as selling sports apparel and novelty items imprinted with the Commission's seal.

The Commission finds that since the amendment to part 2 has no impact upon a member of the public, this amendment will become effective immediately upon publication in the Federal Register. In addition, the Commission has determined that this amendment to part 2 relates solely to the Association's objectives which promote the welfare of Commission employees and does not in any way impinge on the Commission's core mission. Therefore, the provisions of the Administrative Procedure Act, 5 U.S.C. 553, which generally require notice of proposed rule making and provide other opportunities for public participation, are inapplicable. Similarly, the provisions of the Regulatory Flexibility Act, Public Law 96-354, 94 Stat. 1164, do not apply. See 5 U.S.C. 601(2). In addition, the amendment to 17 CFR part 2 does not impose a burden within the meaning and intent of the Paperwork Reduction Act of 1980, 44 U.S.C. 3501, et seq. Provisions related to cost-benefit analysis, in section 15(a) of the Commodity Exchange Act, 7 U.S.C. 19, are also inapplicable.

EFFECTIVE DATE: May 25, 2007.

FOR FURTHER INFORMATION CONTACT: Thuy Dinh, Office of the General Counsel, Commodity Futures Trading Commission, Three Lafayette Centre, 1155 21st Street, NW., Washington, DC 20581. Telephone: (202) 418-5120.

SUPPLEMENTARY INFORMATION: Currently, Commission regulations in 17 CFR part 2 preclude the use of the seal except for official purposes such as affixing the seal to official documents. The seal also may be used in agency-sponsored programs paid for with appropriated funds. For example, novelty items bearing the Commission seal may be distributed in employee incentive programs, award programs, and similar activities. The current rules, however, prohibit and preclude the use of the seal for non-official purposes.

The proposed rule will allow the Commission seal to be used for legitimate, non-official purposes, i.e., on T-shirts and other sport apparels (i.e., hats, sweatshirts and pants, running shorts, wristbands, among others) and sport equipments (tennis rackets, golf clubs, etc.); and novelty items (bags, pens, pencils, lanyards, badge holders, mugs, cup holders, etc.) that can be sold by the Commission's employee recreation association to meet its fundraising goals, or distributed in conjunction with its sport and/or social events such as a golf tournament and/or other seasonal sport events.

List of Subjects in 17 CFR Part 2

Official Seal; Permissible Uses of Official Seal by CFTC Employee Recreation Association.

In consideration of the following, and pursuant to the authority contained in the Commodity Exchange Act, and in particular, section 2(a)(11) of the Commodity Exchange act, 7 U.S.C. 2a(11), the Commission hereby amends Chapter I of title 17 of the Code of Federal Regulations a follows:

PART 2—OFFICIAL SEAL

1. The authority citation for part 2 is revised to read as follows:

Authority: 7 U.S.C. 2a(11).

2. Part 2 is amended by adding a new section 2.4 to read as follows:

* * * * *

§ 2.4 Employee Recreation Association's Use of Commission Seal

(a) As a specific exception to the provisions of 17 CFR 2.2 and 2.3, the Commodity Futures Trading Commission Employee Recreation Association (“Association”) is hereby authorized to use the Commission seal as an imprint upon sport apparel (e.g., hats, clothing, accessories, etc.) and novelty items (e.g., office mugs, lanyards, badge holders, stationary items, among other);

(b) The Association may sell or distribute above said items imprinted with the Commission seal to members of the Association or others to meet its fundraising goals and/or in conjunction with its sports, social or similar events.

Issued in Washington, DC, on the 22nd of May 2007, by the Commission.
Eileen A. Donovan,
Acting Secretary of the Commission.

[FR Doc. 07-2605 Filed 5-24-07; 8:45 am]

BILLING CODE 6351-01-M